DEPARTMENT OF JUSTICE

Drug Enforcement Administration

Honorata Anna Itaman, N.P.; Decision and Order

On March 18, 2025, the Drug Enforcement Administration (DEA or Government) issued an Order to Show Cause (OSC) to Honorata Anna Itaman, N.P., of Orlando, Florida (Applicant). Request for Final Agency Action (RFAA), Exhibit (RFAAX) 1, at 1, 4. The OSC proposed the denial of Applicant's application for a DEA Certificate of Registration, Control No. W24026383M, alleging that Applicant has been excluded from participation in Medicare, Medicaid, and all federal health care programs pursuant to 42 U.S.C. 1320a-7(a). Id. at 2 (citing 21 U.S.C. 824(a)(5)).¹

¹ Based on the Government's submissions in its RFAA dated July 8, 2025, the Agency finds that service of the OSC on Applicant was adequate. Specifically, the Declaration from a DEA Diversion Investigator (DI) indicates that on March 25, 2025, the DI emailed the OSC to Applicant's registered email address, with the email successfully delivered, as well as mailed a copy of the OSC to Applicant's registered address. RFAAX 2, at 2; see also RFAAX 2A-2B. The DI's Declaration also indicates that on the same date, the DI, along with two DEA Special Agents and an additional DI, attempted personal service at Applicant's registered address without success. RFAAX 2, at 1. The Agency finds that the DI's efforts to serve Applicant were “`reasonably calculated, under all the circumstances, to apprise [Applicant] of the pendency of the action.'” Jones v. Flowers, 547 U.S. 220, 226 (2006) (quoting Mullane v. Central Hanover Bank & Trust Co., 339 U.S. 306, 314 (1950)). Therefore, due process notice requirements have been satisfied. See Mohammed S. Aljanaby, M.D., 82 FR 34552, 34552 (2017) (finding that service by email satisfies due process where the email is not returned as undeliverable and other methods have been unsuccessful); Emilio Luna, M.D., 77 FR 4829, 4830 (2012) (same).

The OSC notified Applicant of her right to file a written request for hearing, and that if she failed to file such a request, she would be deemed to have waived her right to a hearing and be in default. RFAAX 1, at 2 (citing 21 CFR 1301.43). Here, Applicant did not request a hearing. RFAA, at 2. “A default, unless excused, shall be deemed to constitute a waiver of the registrant's right to a hearing and an admission of the factual allegations of the [OSC].” 21 CFR 1301.43(e). Further, “[i]n the event that a registrant . . . is deemed to be in default . . . DEA may then file a request for final agency action with the Administrator, along with a record to support its request. In such circumstances, the Administrator may enter a default final order pursuant to [21 CFR] 1316.67.” Id. 1301.43(f)(1). Here, the Government has requested final agency action based on Applicant's default pursuant to 21 CFR 1301.43(c), (f), and 1301.46. RFAA, at 3; see also 21 CFR 1316.67.²

² The RFAA states that “the Administrator is authorized to render DEA's final order without . . . making any findings of fact in this matter.” RFAA, at 3 (citing 21 CFR 1301.43(c), (f), and 1301.46). However, 21 CFR 1316.67 requires that the Administrator's final order “set forth the final rule and findings of fact and conclusions of law upon which the rule is based.” See JYA LLC d/b/a Webb's Square Pharmacy, 90 FR 31244, 31246 n.7 (2025).

I. Findings of Fact

In light of Applicant's default, the factual allegations in the OSC are deemed admitted. 21 CFR 1301.43(e). Applicant is deemed to admit that on January 12, 2023, Applicant was indicted for wire fraud and conspiracy to commit wire fraud, both felonies, in connection to a scheme to sell fraudulent nursing school diplomas and transcripts obtained from accredited Florida-based nursing schools to individuals seeking licenses and jobs as registered nurses and licensed practical/vocational nurses. RFAAX 1, at 1-2.

On September 15, 2023, Applicant pleaded guilty to conspiracy to commit wire fraud. Id. at 2. On April 9, 2024, Applicant was convicted and sentenced to 21 months of imprisonment followed by three years of supervised release. Id. Based on Applicant's conviction, the U.S. Department of Health and Human Services, Office of Inspector General (HHS/OIG) mandatorily excluded Applicant, effective September 19, 2024, from participation in Medicare, Medicaid, and all federal health care programs pursuant to 42 U.S.C. 1320a-7(a) for a period of 11 years. Id. Accordingly, the Agency finds substantial record evidence that Applicant has been, and remains, excluded from federal healthcare programs.

II. Discussion

Pursuant to 21 U.S.C. 824(a)(5), the Attorney General is authorized to suspend or revoke a registration upon finding that the registrant “has been excluded (or directed to be excluded) from participation in a program pursuant to section 1320a-7(a) of Title 42.” The Agency has consistently held that it may also deny an application upon finding that an applicant has been excluded from a federal health care program.³ Mark Agresti, M.D., 90 FR 30098, 30099 (2025); Samirkumar Shah, M.D., 89 FR 71931, 71933 (2024); Arvinder Singh, M.D., 81 FR 8247, 8248 (2016). The Agency found above based on substantial record evidence that Applicant has been, and remains, mandatorily excluded from federal health care programs pursuant to 42 U.S.C. 1320a-7(a).⁴ Accordingly, the Agency finds that substantial record evidence establishes the Government's prima facie case for denial of Applicant's application under 21 U.S.C. 824(a)(5).

³ A statutory basis to deny an application pursuant to section 823 is also a basis to revoke or suspend a registration pursuant to section 824, and vice versa, because doing “otherwise would mean that all applications would have to be granted only to be revoked the next day . . . .” Robert Wayne Locklear, M.D., 86 FR 33738, 33744-45 (2021) (collecting cases).

⁴ The Agency has consistently held that it may deny an application under 21 U.S.C. 824(a)(5) even if the conviction underlying the exclusion does not relate to controlled substances. See, e.g., Phong H. Tran, M.D., 90 FR 14383, 14384 n.10 (2025) (collecting cases).

III. Sanction

Where, as here, the Government has met its prima facie burden of showing that Applicant's application for registration should be denied, the burden shifts to Applicant to show why she can be entrusted with a registration. Morall v. Drug Enf't Admin., 412 F.3d. 165, 174 (D.C. Cir. 2005); Jones Total Health Care Pharmacy, LLC v. Drug Enf't Admin., 881 F.3d 823, 830 (11th Cir. 2018); Garrett Howard Smith, M.D., 83 FR 18882 (2018). The issue of trust is necessarily a fact-dependent determination based on the circumstances presented by the individual registrant. Jeffrey Stein, M.D., 84 FR 46968, 46972 (2019); see also Jones Total Health Care Pharmacy, 881 F.3d at 833. Moreover, as past performance is the best predictor of future performance, the Agency has required that a registrant who has committed acts inconsistent with the public interest must accept responsibility for those acts and demonstrate that he will not engage in future misconduct. See Jones Total Health Care Pharmacy, 881 F.3d at 833; ALRA Labs, Inc. v. Drug Enf't Admin., 54 F.3d 450, 452 (7th Cir. 1995). The Agency requires a registrant's unequivocal acceptance of responsibility. Janet S. Pettyjohn, D.O., 89 FR 82639, 82641 (2024); Mohammed Asgar, M.D., 83 FR 29569, 29573 (2018); see also Jones Total Health Care Pharmacy, 881 F.3d at 830-31. In addition, a registrant's candor during the investigation and hearing is an important factor in determining acceptance of responsibility and the appropriate sanction. See Jones Total Health Care Pharmacy, 881 F.3d at 830-31; Hoxie v. Drug Enf't Admin., 419 F.3d 477, 483-84 (6th Cir. 2005). Further, the Agency has found that the egregiousness and extent of the misconduct are significant factors in determining the appropriate sanction. See Jones Total Health Care Pharmacy, 881 F.3d at 833 n.4, 834. The Agency also considers the need to deter similar acts by a registrant and by the community of registrants. Jeffrey Stein, M.D., 84 FR at 46972-73.

Here, Applicant did not request a hearing or answer the allegations in the OSC and was therefore deemed to be in default. To date, Applicant has not filed a motion with the Office of the Administrator to excuse the default. 21 CFR 1301.43(c)(1). Applicant has thus failed to answer the allegations contained in the OSC and has not otherwise availed herself of the opportunity to refute the Government's case. As such, Applicant has not accepted responsibility for the proven violations, has made no representations regarding her future compliance with the CSA, and has not demonstrated that she can be trusted with registration. Accordingly, the Agency will order the denial of Applicant's application.

Order

Pursuant to 28 CFR 0.100(b) and the authority vested in me by 21 U.S.C. 823(g)(1), I hereby deny the pending application for a DEA Certificate of Registration, Control No. W24026383M, submitted by Honorata Anna Itaman, N.P., as well as any other pending of Honorata Anna Itaman, N.P., for additional registration in Florida. This Order is effective February 17, 2026.

Signing Authority

This document of the Drug Enforcement Administration was signed on January 6, 2026, by Administrator Terrance C. Cole. That document with the original signature and date is maintained by DEA. For administrative purposes only, and in compliance with requirements of the Office of the Federal Register, the undersigned DEA Federal Register Liaison Officer has been authorized to sign and submit the document in electronic format for publication, as an official document of DEA. This administrative process in no way alters the legal effect of this document upon publication in the Federal Register.

Heather Achbach,
Federal Register Liaison Officer, Drug Enforcement Administration.

[FR Doc. 2026-00623 Filed 1-14-26; 8:45 am]

BILLING CODE 4410-09-P